POSTAL REGULATORY COMMISSION

[Docket Nos. MC2010-12 and R2010-2; Order No. 346]

New Postal Product

AGENCY: Postal Regulatory Commission.

ACTION: Notice.

SUMMARY: The Commission is noticing a recently-filed Postal Service request to add the Canada Post—United States Postal Service Contractual Bilateral Agreement for Inbound Market Dominant Services to the Market Dominant Product List. The Postal Service has also filed a related contract. This notice addresses procedural steps associated with these filings.

DATES: Comments are due: December 9, 2009.

ADDRESSES: Submit comments electronically via the Commission's Filing Online system at http://www.prc.gov. Commenters who cannot submit their views electronically should contact the person identified in “FOR FURTHER INFORMATION CONTACT” by telephone for advice on alternatives to electronic filing.

FOR FURTHER INFORMATION CONTACT: Stephen L. Sharfman, General Counsel, 202-789-6820 or stephen.sharfman@prc.gov.

SUPPLEMENTARY INFORMATION:

I. Introduction

II. Notice of Filings

III. Ordering Paragraphs

I. Introduction

On November 19, 2009, the Postal Service filed a request pursuant to 39 U.S.C. 3622(c)(10) and 3642, and 39 CFR 3010.40 et seq. and 3020.30 et seq. to add the Canada Post—United States Postal Service Contractual Bilateral Agreement for Inbound Market Dominant Services (Bilateral Agreement) to the Market Dominant Product List.¹ This Request has been assigned Docket No. MC2010-12.

¹ Request of the United States Postal Service to Add Canada Post—United States Postal Service Contractual Bilateral Agreement for Inbound Market Dominant Services to the Market Dominant Product List, Notice of Type 2 Rate Adjustment, and Notice of Filing Agreement (Under Seal), November 19, 2009, and United States Postal Service Notice of Erratum to Application for Non-Public Treatment, November 20, 2009 (Request).

The Postal Service contemporaneously filed notice that the Governors have authorized a Type 2 rate adjustment to establish rates for inbound market dominant services as reflected in the Bilateral Agreement.² More specifically, the Bilateral Agreement, which has been assigned Docket No. R2010-2, governs the exchange of inbound air and surface letter post (LC/AO).³

² Type 2 rate adjustments involve negotiated service agreements. See 39 CFR 3010.5.

³ To elaborate, the Bilateral Agreement covers Letter Post, including letters, flats, packets, containers, and International Registered Mail service ancillary thereto. Request at 3-4.

Request. In support of its Request, the Postal Service filed the following materials: (1) Proposed Mail Classification Schedule (MCS) language; ⁴ (2) a Statement of Supporting Justification as required by 39 CFR 3020.32; ⁵ (3) a redacted version of the agreement; ⁶ and (4) an application for non-public treatment of pricing and supporting documents filed under seal.⁷ Request at 2.

⁴ Attachment 1 to the Request.

⁵ Attachment 2 to the Request.

⁶ Attachment 3 to the Request.

⁷ Attachment 4 to the Request.

In the Statement of Supporting Justification, Lea Emerson, Executive Director, International Postal Affairs, reviews the factors of section 3622(c) and concludes, inter alia, that the revenues generated will cover the attributable costs of the services offered under the Bilateral Agreement; that the rates are preferable to default rates set by the Universal Postal Union; and that the rates represent a modest increase over those reflected in the existing bilateral agreement with Canada Post. Id., Attachment 2, at 2-3.

In its Request, the Postal Service provides information responsive to part 3010, subpart D, of the Commission's rules. To that end, it addresses the requirements of section 3622(c)(10) as well as certain details of the negotiated service agreement. Id. at 2-7. The Postal Service asserts that the Bilateral Agreement satisfies all applicable statutory criteria. Id. at 6-8.

The Postal Service filed much of the supporting materials, financial analysis, and specific Bilateral Agreement under seal. Id. at 2. In its Request, the Postal Service maintains that the Bilateral Agreement and related financial information should remain under seal. Id.

The Postal Service has an existing bilateral agreement with Canada Post which is set to expire December 31, 2009.⁸ Id. at 7. The instant Bilateral Agreement represents a 1-year extension of the existing agreement, with some modifications. The modifications include differences in specific operational details of the two agreements and the Postal Service's decision to classify Canada Post's “Xpresspost-USA” as a competitive product instead of a market dominant product as in the existing bilateral agreement.⁹ The agreement states it has an effective date of January 1, 2010. Id. at 3. The Request states that the inbound market dominant rates are scheduled to become effective on January 4, 2010. Id.

⁸ The Postal Service maintains that the instant Bilateral Agreement is functionally comparable to the agreement in Docket Nos. MC2009-7 and R2009-1.

⁹ The Postal Service states that it will present Xpresspost-USA in a future filing with the Commission. Id. at 8, n.10.

The Postal Service urges the Commission to act promptly to add this product to the Market Dominant Product List to allow rates to be implemented under 39 CFR 3010.40. Id. at 9.

II. Notice of Filings

Pursuant to 39 U.S.C. 3622 and 3642, the Commission establishes Docket Nos. MC2010-12 and R2010-2 for consideration of the Request pertaining to the proposed Canada Post—United States Postal Service Contractual Bilateral Agreement product and the related Bilateral Agreement, respectively. In keeping with practice, these dockets are addressed on a consolidated basis for purposes of this order; however, future filings should be made in the specific docket in which issues being addressed pertain.

Interested persons may submit comments on whether the Postal Service's filings in the captioned dockets are consistent with the policies of 39 U.S.C. 3622 and 3642, 39 CFR part 3010.40, and 39 CFR 3020 subpart B. The due date for comments is December 9, 2009. The public portions of these filings can be accessed via the Commission's Web site http://www.prc.gov.

The Commission appoints Paul L. Harrington to serve as Public Representative in these dockets.

III. Ordering Paragraphs

It is ordered:

1. The Commission establishes Docket Nos. MC2010-12 and R2010-2 for consideration of the matters raised in each docket.

2. Pursuant to 39 U.S.C. 505, Paul L. Harrington is appointed to serve as officer of the Commission (Public Representative) to represent the interests of the general public in these proceedings.

3. Comments by interested persons in these proceedings are due no later than December 9, 2009.

4. The Secretary shall arrange for publication of this order in the Federal Register.

By the Commission.
Judith M. Grady,
Acting Secretary.

[FR Doc. E9-29224 Filed 12-7-09; 8:45 am]

BILLING CODE 7710-FW-S